DEPARTMENT OF JUSTICE

Antitrust Division

Notice Pursuant to the National Cooperative Research and Production Act of 1993—National Armaments Consortium

Notice is hereby given that, on May 31, 2016, pursuant to section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Advanced Material Designs & Reliability, Austin, TX; AECOM, Germantown, MD; Alytic, Inc., King George, VA; Apexx Enterprises, LLC, Montgomery, IN; A-Tech Corporation, Alburquerque, NM; Atlantic Fluid Power, Inc. dba Atlantic Industrial Technologies, Shirley, NY; Azimuth Consulting Services, Inc., Fairfax, VA; B.E. Meyers & Co., Inc., Redmond, WA; BakerRisk, San Antonio, TX; Cerion, LLC, Rochester, NY; Corning Incorporated, Corning, NY; Creative MicroSystems Corporation, Waitsfield, VT; D&H-Nav Technologies Corporation, Jackson, NJ; Daniel Defense, Inc., Black Creek, GA; Doolittle Institute, Inc., Fort Walton Beach, FL; Drexel University, Philadelphia, PA; Dynamic Structures and Materials, LLC, Franklin, TN; EngeniusMicro, Atlanta, GA; Equinox Corporation, New York, NY; Exlar Corporation, Chanhassen, MN; Fathom 4, LLC, Charleston, SC; Fibertek, Inc., Herndon, VA; Government Energy Solutions, Inc., Huntsville, AL; GPH Consulting, LLC, Charleston, SC; Gunwright Technologies, LLC, Gilbert, AZ; Intuitive Research and Technology Corporation, Huntsville, AL; Joint Research and Development, Belcamp, MD; K2 Solutions Inc., Southern Pines, NC; L-3 Applied Technologies, Inc., San Leandro, CA; LinQuest Corporation, Los Angeles, CA; Loc Performance Products, Inc., Plymouth, MI; Lockheed Martin Aculight Corporation, Bothell, WA; ManTech Advanced Systems International, Inc., Fairfax, VA; Manufacturing Techniques, Inc. (dba MTEQ), Lorton, VA; Matrix International Security Training Intelligence Center, Inc. (MISTIC), Rosewell, NM; Metamagnetics Inc., Canton, MA; Mettle Ops, Sterling Heights, MI; Mistral Inc., Bethesda, MD; MZA Associates Corporation, Albuquerque, NM; Nammo Energetics Indian Head, Inc., Arlington, VA; New Mexico Institute of Mining and Technology, Socorro, NM; On-Point Defense Technologies, Fort Walton Beach, FL; Patriot American Solutions, Rockaway, NJ; Plansee USA LLC, Franklin, MA; QinetiQ North America, Waltham, MA; RCT Systems Inc., Herndon, VA; Redstone Aerospace Corporation, Longmont, CO; Remington Arms Company, LLC, Madison, NC; Solution Now Enterprises, LLC, Winter Park, FL; Streamline Numerics, Inc., Gainesville, FL; Systems Engineering Group, Inc., Columbia, MD; Tech Projects LLC, Honolulu, HI; Technology Assessment and Transfer, Inc., Annapolis, MD; Ten-X Ammunition, Inc., Rancho Cucamonga, CA; The Boeing Company, Laser & Electo-Optical Systems, Albuquerque, NM; The ExOne Company, North Huntingdon, PA; Thermacore Materials Technology Division, Belle Vernon, PA; Trust Automation, Inc., San Luis Obispo, CA; UNC Charlotte Research Institute, Charlotte, NC; Unified Business Technologies, Inc., Troy, MI; and XL Scientific, LLC, Albuquerque, NM, have been added as parties to this venture.

Also, AT and T Government Solutions, Inc., Vienna, VA; Cherokee-Technical Specialists, LLC, Miramar Beach, FL; Combustion Propulsion and Ballistic Technology Corp., State College, PA; Custom Cable Solutions, Inc., Salisbury, MD; Meggitt (Orange County), Inc., Irvine, CA; MSE Technology Application, Inc., Butte, MT; Performance Indicator, LLC, Lowell, MA; T.Quinn & Associates, LLC, Warren, MI; Tec-Masters, Inc., Huntsville, AL; TELEGRID Technologies, Inc., Livingston, NJ; TLC Precision Wafer Technology Inc., Minneapolis, MN; TrackingPoint, Inc., Pflugerville, TX; and Triton Systems, Inc., Chelmsford, MA, have withdrawn as parties to this venture.

No other changes have been made in either the membership or planned activity of the group research project. Membership in this group research project remains open, and NAC intends to file additional written notifications disclosing all changes in membership.

On May 2, 2000, NAC filed its original notification pursuant to section 6(a) of the Act. The Department of Justice published a notice in the Federal Register pursuant to section 6(h) of the Act on June 30, 2000 (65 FR 40693).

The last notification was filed with the Department on March 15, 2016. A notice was published in the Federal Register pursuant to section 6(h) of the Act on April 14, 2016 (81 FR 22121).

Patricia A. Brink,
Director of Civil Enforcement, Antitrust Division.

[FR Doc. 2016-15966 Filed 7-5-16; 8:45 am]

BILLING CODE P